ENVIRONMENTAL PROTECTION AGENCY

[ER-FRL-6617-8]

Environmental Impacts Statements; Notice of Availability

Responsible Agency: Office of Federal Activities, General Information (202) 564-7167 or www.epa.gov/oeca/of.

Weekly receipt of Environmental Impact Statements

Filed April 30, 2001 Through May 04, 2001

Pursuant to 40 CFR 1506.9.

EIS No. 010151, Draft EIS, AFS, IL, Midewin National Tallgrass Prairie, Proposed Land and Resource Management Plan, Implementation, Prairie Plan Development, Will County, IL, Comment Period Ends: September 06, 2001, Contact: Renee Thakali (815) 423-6370.

EIS No. 010152, Final EIS, USA, Programmatic EIS—Transportable Treatment Systems for Non-Stockpile Chemical Warfare Material (CWM), To Destroy Non-Stockpile in order to Protect Human, Health, Safety and the Environment, To Comply with the International Treaty, Nationwide, Wait Period Ends: June 11, 2001, Contact: John Gieseking (410) 436-8737.

EIS No. 010153, Draft Supplement, BLM, MT, Zortman and Landusky Mines Reclamation Plan, Modifications and Mine Life Extensions, Updated Information To Analyze Additional Reclamation Alternatives, Approval of Mine Operation, Mine Reclamation and COE Section 404 Permits, Little Rocky Mountains, Phillip County, MT, Comment Period Ends: July 09, 2001, Contact: Scott Haight (406)538-1930.

EIS No. 010154, Draft EIS, DOI, NV, Reno Clay Plant Project, Construct and Operate an Open-Pit Clay Mine and Ore Processing Facility, Plan of Operations, Oil-Dri Corporation of Nevada, Hungry Valley, Washoe County, NV, Comment Period Ends: July 10, 2001, Contact: Terri Knutson (775) 885-6156.

EIS No. 010155, Draft EIS, COE, NJ, Great Egg Harbor Inlet to Townsends Inlet, Storm Damage Reduction for Ocean City and Ludlam Island Utilizing Beachfill to Construct a Protective Berm and Dune, City of Ocean City, Strathmere (Township of Upper), City of Sea Isle City, Cape May County, NJ, Comment Period Ends: June 25, 2001, Contact: Steven Allen (215) 656-6559.

EIS No. 010156, Final EIS, JUS, AZ, Pinal County Private Detention Facility, Development and Operation of a Pre-Trail Detention Facility, Pinal County, AZ, Wait Period Ends: June 11, 2001, Contact: Charles Coburn (202) 307-9045.

EIS No. 010157, Draft EIS, BOP, CA, Fresno Federal Correctional Facility Development, Orange Cove, Fresno County, CA, Comment Period Ends: June 25, 2001, Contact: David J. Dorworth (202) 514-6470.

EIS No. 010158, Draft EIS, FHW, PA, Pennsylvania Turnpike/Interstate 95 Interchange Project, Pennsylvania Turnpike (I-276) and I-95 in Bucks County, PA Connection with Proposed Interstate Improvements Extending east into Burlington County, NJ, Funding, Buck County, PA and Burlington County, NJ, Comment Period Ends: July 02, 2001, Contact: James A. Cheatham (717) 221-3461.

EIS No. 010159, Draft Supplement, DOE, NV, Geologic Repository for the Disposal of Spent Nuclear Fuel and High-Level Radioactive Waste, Construction, Operation, Monitoring and Eventually Closing a Geologic Repository at Yuma Mountain, Update and Additional Information, Nye County, NV, Comment Period Ends: June 25, 2001, Contact: Jane R. Summerson (702) 794-1493.

EIS No. 010160, Final EIS, FHW, CO, South I-25 and US 85 Corridors Improvements, CO-470 to Castle Rock, Funding, Douglas County, CO, Wait Period Ends: June 11, 2001, Contact: Scott Sands (303) 969-6730.

EIS No. 010161, Draft EIS, USA, CO, Pueblo Chemical Depot, Destruction of Chemical Munitions, Design, Construction, Operation and Closure of a Facility, Pueblo County, CO, Comment Period Ends: June 25, 2001, Contact: Penny Robitaille (410) 436-4178.

EIS No. 010162, Draft EIS, DOD, AL, Assembled Chemical Weapons Destruction Technologies at One or More Sites, Design, Construction and Operation of One or More Pilot Test Facilities, Anniston Army Depot, AL; Pine Bluff Arsenal, AR; Blue Grass Army Depot, KY and Pueblo Chemical Depot, CO, Comment Period Ends: June 25, 2001, Contact: Jon Ware (410) 436-2210.

EIS No. 010163, Final EIS, AFS, WY, State of Wyoming School Section 16 T. 12N., R.83W., 6th P.M., Issuing a Forest Road Special-Use-Permit for Access, Medicine Bow-Routt National Forests, Brush Creek/Hayden Ranger District, Carbon County, WY, Wait Period Ends: June 11, 2001, Contact: Lynn Johnson 307-745-2300

Dated: May 8, 2001.
Joseph C. Montgomery,
Director, NEPA Compliance Division, Office of Federal Activities.

[FR Doc. 01-11954 Filed 5-10-01; 8:45 am]

BILLING CODE 6560-50-U